DEPARTMENT OF COMMERCE

International Trade Administration

[A-580-813]

Stainless Steel Butt-Weld Pipe Fittings From Korea; Notice of Final Results of Antidumping Duty Administrative Review

AGENCY: Import Administration, International Trade Administration, Department of Commerce.

ACTION: Notice of Final Results Antidumping Duty Administrative Review.

SUMMARY: On September 29, 2003, the Department of Commerce (the Department) published the preliminary results and partial rescission of antidumping duty administrative review on stainless steel butt-weld pipe fittings from Korea. The review, as initiated, covered three manufacturers/exporters, Sam Sung Stainless Commerce & Ind. Co., Ltd. (Sam Sung), Sungkwang Bend Co., Ltd. (Sungkwang), and TK Corporation. However, along with the preliminary results we rescinded the review with respect to Sungkwang and TK Corporation because the only party that requested a review of these two companies withdrew the request in a timely manner. Therefore these final results of review cover only Sam Sung. The period of review is February 1, 2002 through January 31, 2003. We gave interested parties an opportunity to comment on our preliminary results. We received no comments. Furthermore, the Department made no changes in its analysis following publication of the preliminary results. Therefore, the final results of review are unchanged from those presented in the preliminary results of review.

EFFECTIVE DATE: December 16, 2003.

FOR FURTHER INFORMATION CONTACT: Fred Baker or Robert James, Enforcement Group III, Office 8, Import Administration, International Trade Administration, U.S. Department of Commerce, 14th Street and Constitution Avenue, NW., Washington, DC 20230; telephone (202) 482-2924 and (202) 482-0649, respectively.

SUPPLEMENTARY INFORMATION:

Background

On September 29, 2003 the Department published its preliminary results and partial rescission of antidumping duty administrative review of stainless steel butt-weld pipe fittings from Korea. See Stainless Steel Butt-Weld Pipe Fittings from Korea; Notice of Preliminary Results and Partial Rescission of Antidumping Duty Administrative Review, 68 FR 55935 (September 29, 2003) (Preliminary Results). In that notice we rescinded the review with respect to SungKwang and TK Corporation because the only party that requested the review of these companies withdrew the request in a timely manner. We also assigned Sam Sung an adverse facts available rate because it withheld information the Department requested by refusing to respond to the Department's antidumping questionnaire. We gave interested parties an opportunity to comment on our preliminary results. No parties submitted comments. We have now completed the administrative review in accordance with section 751(a) of the Tariff Act of 1930, as amended (the Tariff Act).

Period of Review

The period of review (POR) is February 1, 2002 through January 31, 2003.

Scope of the Review

The products subject to this review are certain welded stainless steel butt-weld pipe fittings (pipe fittings), whether finished or unfinished, under 14 inches in inside diameter.

Pipe fittings are used to connect pipe sections in piping systems where conditions required welded connections. The subject merchandise can be used where one or more of the following conditions is a factor in designing the piping system: (1) corrosion of the piping system will occur if material other than stainless steel is used; (2) contamination of the material in the system by the system itself must be prevented; (3) high temperatures are present; (4) extreme low temperatures are present; (5) high pressures are contained within the system.

Pipe fittings come in a variety of shapes, and the following five are the most basic: “elbows,” “tees,” “reducers,” “stub ends,” and “caps.” The edges of finished fittings are beveled. Threaded, grooved, and bolted fittings are excluded from this review. The pipe fittings subject to this review are classifiable under subheading 7307.23.00 of the Harmonized Tariff Schedule of the United States (HTSUS).

Although the HTSUS subheading is provided for convenience and customs purposes, our written description of the scope of this proceeding is dispositive.

Use of Facts Available

For the reasons set forth in our preliminary results we continue to find that application of an adverse facts available rate of 21.20 percent to Sam Sung is appropriate. See Preliminary Results at 55936-37.

Final Results of Review

As a result of our determination that it is appropriate to apply adverse facts available to Sam Sung, we determine that a weighted-average dumping margin of 21.20 percent exists for Sam Sung for the period February 1, 2002 through January 31, 2003.

The Department will determine, and U.S. Customs and Border Protection (Customs) shall assess, antidumping duties on all appropriate entries. The Department will issue appropriate assessment instructions directly to Customs within 15 days of publication of these final results of review. We will direct Customs to assess the resulting assessment rate against the entered customs values for the subject merchandise on each entry during the review period.

Cash Deposit Requirements

The following deposit requirements will be effective upon publication of this notice of final results of administrative review for all shipments of the subject merchandise entered, or withdrawn from warehouse, for consumption on or after the publication, as provided by section 751(a)(1) of the Tariff Act: (1) the cash deposit rate for the reviewed company will be the rate shown above; (2) for previously reviewed or investigated companies not listed above, the cash deposit will continue to be the company-specific rate published for the most recent period; (3) if the exporter is not a firm covered in this review, a prior review, or the original investigation, but the manufacturer is, the cash deposit rate will be that established for the most recent period for the manufacturer of the merchandise; and (4) if neither the exporter nor the manufacturer is a firm covered in this review, any previous reviews, or the LTFV investigation, the cash deposit rate will be 21.20 percent, the “all others” rate established in the LTFV investigation. See Final Determination of Sales at Less Than Fair Value: Certain Welded Stainless Steel Butt-Weld Pipe Fittings from the Republic of Korea, 57 FR 61881, 61882 (December 29, 1992).

These deposit requirements, when imposed, shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this notice in accordance with sections 751(a)(1) and 777(i)(1) of the Tariff Act.

Dated: December 9, 2003.
James J. Jochum,
Assistant Secretary for Import Administration.

[FR Doc. 03-31018 Filed 12-15-03; 8:45 am]

BILLING CODE 3510-DS-S